DEPARTMENT OF AGRICULTURE

Forest Service

Notice of New Fee Site; Federal Lands Recreation Enhancement Act, (Title VIII, Pub. L. 108-447)

AGENCY: Caribou-Targhee National Forest, USDA Forest Service.

ACTION: Notice of New Fee Site.

SUMMARY: The Soda Springs Ranger District of the Caribou-Targhee National Forest will begin charging a $10 fee for single family overnight camping at the Gravel Creek Campground. There will also be a $5 fee for an extra vehicle. Overnight camping at other campgrounds on the Caribou-Targhee National Forest have shown that publics appreciate and enjoy the availability of developed recreation facilities. Funds from the fee charges will be used for the continued operation and maintenance of the Gravel Creek Campground.

DATES: Gravel Creek Campground will become available for overnight camping on June 1, 2007 (weather permitting).

ADDRESSES: Forest Supervisor, Caribou-Targhee National Forest, 1405 Hollipark Dr., Idaho Falls, Idaho 83401

FOR FURTHER INFORMATION CONTACT: Doug Heyrend, Supervisory Forester, 208-547-4356

SUPPLEMENTARY INFORMATION: The Federal Recreation Lands Enhancement Act (Title VII, Pub.L. 108-447) directed the Secretary of Agriculture to publish a six month advance notice in the Federal Register whenever new recreation fee areas are established.

The Soda Spring Ranger District of the Caribou-Targhee National Forest currently has no fee campgrounds. These facilities are in close proximity to Grays Lake National Wildlife Refuge, a large marsh and riparian area. This area offers significant recreational wildlife viewing opportunities and is rich in historical and cultural importance. A market analysis indicates that the $10/per night single family camping fee is both reasonable and acceptable for this sort of unique recreation experience.

Dated: November 17, 2006.
Sheryl Bainbridge,
Acting Caribou-Targhee National Forest Supervisor.

[FR Doc. E6-19891 Filed 11-24-06; 8:45 am]

BILLING CODE 3410-11-P